NATIONAL AERONAUTICS AND SPACE ADMINISTRATION

[Notice 00-066]

NASA Advisory Council (NAC), Space Science Advisory Committee (SScAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee.

DATES: Monday, July 10, 2000, 8:15 a.m. to 5:30 p.m.; Tuesday, July 11, 2000, 8:15 a.m. to 5:30 p.m; and Wednesday, July 12, 2000, 8:15 a.m. to noon.

ADDRESSES: NASA Headquarters, Conference Room 6H46, 300 E Street, SW, Washington, DC 20546.

FOR FURTHER INFORMATION CONTACT: Dr. Jeffrey Rosendhal, Code S, National Aeronautics and Space Administration, Washington, DC 20546, 202/358-2470.

SUPPLEMENTARY INFORMATION: The meeting will be open to the public up to the capacity of the room. The agenda for the meeting is as follows:

—Mars Program Restructuring

—OSS Strategic Plan

—OSS Program/Budget Status

—Theme Status Reports

—Explorer Program Status

—NASA-University Study

—Reports from Subcommittees

—Research Program Report

It is imperative that the meeting be held on these dates to accommodate the scheduling priorities of the key participants. Visitors will be requested to sign a visitor's register.

Dated: June 1, 2000.
Matthew M. Crouch,
Advisory Committee Management Officer, National Aeronautics and Space Administration.

[FR Doc. 00-14372 Filed 6-7-00; 8:45 am]

BILLING CODE 7510-01-U